DEPARTMENT OF THE INTERIOR

Fish and Wildlife Service

Information Collection Renewal To Be Submitted to the Office of Management and Budget (OMB) for Approval Under the Paperwork Reduction Act; Summary Information for Ranking National Coastal Wetlands Grant Program Proposals, 50 CFR 84

AGENCY: Fish and Wildlife Service, Interior.

ACTION: Notice; request for comments.

SUMMARY: The U.S. Fish and Wildlife Service (We) will submit the collection of information described below to OMB for approval under the provisions of the Paperwork Reduction Act of 1995. An estimate of the information collection burden is included in this notice. You may obtain copies of the collection requirement, related forms, or explanatory material by contacting the person listed below under FOR FURTHER INFORMATION CONTACT.

DATES: Interested parties must submit comments on or before July 13, 2004.

ADDRESSES: Interested parties should send comments on the information collection by mail to Information Collection Officer, U.S. Fish and Wildlife Service, 4401 North Fairfax Drive, Suite 222, Arlington, VA 22203; by fax to (703) 358-2269; or by e-mail to Anissa_Craghead@fws.gov.

FOR FURTHER INFORMATION CONTACT: Kim Galvan, voice (703) 358-2420, fax (703) 358-1837, or e-mail kgalvan@fws.gov.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). An agency may not conduct or sponsor, and a person is not required to respond to, a collection of information unless it displays a currently valid OMB control number.

We will submit a request to OMB to renew its approval of the collection of information associated with the Summary Information for Ranking National Coastal Wetlands Grant Program Proposals. The Service administers the National Coastal Wetlands Conservation Grant program authorized by the Coastal Wetlands Planning, Protection and Restoration Act (16 U.S.C. 3951-3956). The Service uses the information collected to evaluate proposals under this program. The information collected includes summarized information on habitat, coastal barriers, levels of conservation, watershed management, threatened and/or endangered species potentially involved, benefits of the restoration proposed, partners, cost sharing, education/outreach impact, impact on wildlife-oriented recreation, and other benefits. This summary information allows easy ranking of proposals in a short period of time, and because grant applicants complete the summary information, the information is a thorough and accurate summary of the proposal.

The OMB control number for this information collection is 1018-0111, and the OMB approval for this collection expires on September 30, 2004. We will request a 3-year term of approval for this information collection activity.

Title: Summary Information for Ranking National Coastal Wetlands Conservation Grant Program Proposals, 50 CFR 84.

OMB Control Number: 1018-0111.

Form Number: 3-2179.

Frequency of Collection: Annually.

Description of Respondents: Coastal States and Territories, as follows:

• States bordering the Great Lakes (Illinois, Indiana, Michigan, Minnesota, New York, Ohio, Pennsylvania, and Wisconsin);

• Most States bordering the Atlantic, Gulf, and Pacific coasts (Alabama, Alaska, California, Connecticut, Delaware, Florida, Georgia, Hawaii, Maine, Maryland, Massachusetts, Mississippi, New Hampshire, New Jersey, New York, North Carolina, Oregon, Rhode Island, South Carolina, Texas, Virginia, and Washington); and

• Territories of American Samoa, Commonwealth of the Northern Mariana Islands, Guam, Puerto Rico, and the Virgin Islands.

(Please note that Louisiana is not included in this program because it has its own wetlands conservation program authorized by the Coastal Wetlands Planning, Protection and Restoration Act and implemented by the Corps of Engineers with assistance from the State of Louisiana, the Environmental Protection Agency, and the Departments of the Interior, Agriculture, and Commerce.)

Annual Burden Estimates:

Name | Completion time per form (minutes) | Total annual number of responses | Total annual burden hours
Summary Form (3-2179) | 30 | 35 | 17.5

We invite comments on: (1) Whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Dated: May 10, 2004.
Anissa Craghead,
Service Information Collection Officer.

[FR Doc. 04-10956 Filed 5-13-04; 8:45 am]

BILLING CODE 4310-55-P